DEPARTMENT OF AGRICULTURE

Forest Service

Lost Granite Squirrel, Colville National Forest, Pend Oreille and Stevens Counties, WA

AGENCY: Forest Service, USDA.

ACTION: Cancellation notice.

SUMMARY: On February 28, 2002, a Notice of Intent (NOI) to prepare an environmental impact statement for Lost Granite Squirrel was published in the Federal Register (67 FR 9248). Since the project proposed action has been postponed, and funding situations have changed, the 2002 NOI is hereby rescinded.

FOR FURTHER INFORMATION CONTACT: Lynn Kaney, District Ranger, or Amy Dillon, Interdisciplinary Team Leader, 315 North Warren, Newport, Washington 99156 (phone 509-447-7300).

Dated: February 3, 2004.
Allen Garr,
Acting Forest Supervisor.

[FR Doc. 04-4446 Filed 2-27-04; 8:45 am]

BILLING CODE 3410-11-M